DEPARTMENT OF DEFENSE

Department of the Navy

Record of Decision for Transfer and Reuse of the Naval Weapons Industrial Reserve Plant, Bethpage, NY

AGENCY: Department of the Navy, DoD.

ACTION: Notice.

SUMMARY: The Department of the Navy announces its decision to transfer the Naval Weapons Industrial Reserve Plant, at Bethpage, New York, to Nassau County, New York.

SUPPLEMENTARY INFORMATION: Pursuant to the Defense Authorization Act for Fiscal Year 1998, section 102(2)(C) of the National Environmental Policy Act (NEPA) of 1969, and the Council on Environmental Quality Regulations for implementing NEPA procedures (40 CFR parts 1500-1508), the Department of the Navy (Navy) announces its decision to transfer the Naval Weapons Industrial Reserve Plant Bethpage (NWIRP) to Nassau County, New York. The conveyance and subsequent reuse of this property will be in accordance with the preferred alternative as described in the Final Environmental Impact Statement (FEIS).

Background

NWIRP Bethpage is located in the hamlet of Bethpage, town of Oyster Bay, and consists of two land parcels encompassing about 109.5 acres. The larger parcel (105 acres) contains Plant 3; Plant 10; Buildings 4-9 (north warehouses); Buildings 11-20 (south warehouses); and 30 Navy-owned ancillary buildings. The smaller parcel (4.5 acres) contains Plant 20 and one out-building. In addition to these land holdings, the transfer of NWIRP Bethpage includes Plant 5, a Navy-owned research and development building, and six other Navy-owned buildings located on land owned by the Northrop Grumman Corporation.

The Defense Authorization Act for fiscal year 1998 authorized the Secretary of the Navy to convey the property to Nassau County, NY, provided the property is used for economic redevelopment or other public uses.

Alternatives Considered—The Federal action is the conveyance of the NWIRP property outside of federal control. The EIS considered reuse of the NWIRP property an indirect effect of conveyance. The EIS analyzed the indirect effects of Nassau County's Preferred Reuse Plan, as well as the indirect effects of two other reuse plans, one that proposed a lesser intensity use and the other a greater intensity use of the site.

Nassau County's Preferred Reuse Plan proposes a mix of light industrial, warehousing, and office uses for the 105-acre parcel, and commercial uses on the 4.5-acre parcel. A total of about 1.97 million square feet of new and existing buildings would provide employment opportunities for about 5,400 workers. Full build-out of the NWIRP Bethpage property under the Preferred Reuse Plan was estimated to occur in 2010.

The EIS evaluated the development of NWIRP Bethpage under a second mixed reuse plan that proposed a less intense use than that in the Preferred Reuse Plan. Under the less intense reuse plan, about 1.7 million square feet in existing buildings and new construction would provide employment opportunities for 2,200 workers.

The EIS evaluated a third use plan that proposed a more intense use than the Preferred Reuse Plan. Under the more intense reuse plan, the NWIRP property would be redeveloped entirely for administrative use. This alternative would result in about 2.2 million square feet of office space and create job opportunities for approximately 9,900 employees.

Under the No Action Alternative, the NWIRP property would not be conveyed and would remain in U.S. Government ownership. The property would be placed in federal caretaker status with Navy maintaining the physical condition of the property, providing a security force, and making repairs essential to safety.

Environmental Impact of the Preferred Alternative—The EIS analyzes direct, indirect and cumulative environmental impacts. There are no direct environmental impacts associated with Navy conveyance of the property to Nassau County because conveyance simply results in a change in ownership. There are indirect and cumulative impacts that would result from Nassau County implementing its Preferred Reuse Plan after conveyance of the property.

Redevelopment of the property will generate an estimated 5,400 new jobs, resulting in beneficial socioeconomic impacts. Annual estimated earnings of these new jobs would be about $220 million. Other employment occurring in the region as a result of the new development on the NWIRP property is estimated at 7,250 new jobs providing an additional $203 million in earnings. As the property is transitioned from county ownership to private ownership, and thereby subject to local real estate taxes, the estimated tax generated would be about $13 million.

The Reuse Plan does not provide for any new housing units on the NWIRP site. The new workers at the NWIRP site are expected to commute from elsewhere in the region and therefore the local school system will not be significantly impacted. Even if there is worker migration into the area, local school systems have sufficient capacity to accommodate any corresponding increase in student enrollment. There will be additional demands on community support services such as police, fire, and emergency care. It is expected that this need would increase gradually over several years. The Reuse Plan provides for additional property tax revenue to support increased service costs.

Traffic generated by implementation of the Reuse Plan is expected to cause degraded levels of service at several intersections in the vicinity of the NWIRP site. State and Local governments will need to make intersection and roadway improvements to mitigate the impacts of increased traffic. With such improvements, there will be no significant traffic-related impacts.

The Clean Air Act General Conformity rule is not applicable to the transfer of the NWIRP Bethpage property, as stated in 40 CFR part 153(c), exemptions (XIV) and (XIX). While there will be an increase in carbon monoxide emissions due to the increase in traffic, the increase in CO will not be significant since the levels will remain below the National Ambient Air Quality Standards.

Noise levels will increase approximately three decibels due to additional traffic. These higher noise levels will exceed Federal Highway Administration and U.S. Department of Housing and Urban Development standards for residential property located in the surrounding area. However, existing noise levels in the area already exceed established residential noise standards, and the three-decibel increase will be barely perceptible to the general population.

Implementation of the Reuse Plan will result in the demolition of 18 of the 19 historic buildings comprising the Bethpage Naval Aircraft Production Historic District. Demolition of the historic buildings will alter the historic setting, feeling, and character of the historic district and will result in an adverse effect. The Final EIS discussed the possible use of protective covenants as mitigation for adverse impacts on the historic district in the event Nassau County and the New York State Historic Preservation Officer (SHPO) could not agree on how to mitigate those impacts. After the Final EIS was published, Nassau County and the SHPO agreed that recordation of the historic buildings as mitigation. Nassau County completed the recordation process and the SHPO accepted this recordation process as adequate mitigation for demolition of the historic structures.

There will be no significant impacts to biological resources. Nearly all of the NWIRP Bethpage property is fully developed. There is insufficient habitat at the site to support most wildlife species and there are no federally listed threatened or endangered species at NWIRP Bethpage.

There will be no significant impacts associated with existing hazardous waste sites. Transfer of Navy property must include a determination of the environmental suitability of the land for transfer to a nonfederal agency or to the public. Most areas on NWIRP Bethpage meet the requirements for transfer set out in the Comprehensive Environmental Response, Compensation and Liability Act without further environmental action. The Navy is working with Nassau County and the Grumman Master Planning Council to coordinate transfer of the parcels scheduled for reuse. The Navy intends to clean up the NWIRP site to levels approved by U.S. Environmental Protection Agency (EPA), the New York State Department of Environmental Conservation, and the Nassau County Department of Health Bureau of Environmental Exposure Investigations.

In accordance with Executive Order 12898, Federal Actions to Address Environmental Justice in Minority Populations and Low-Income Populations, Navy analyzed the direct and indirect effects of the proposed conveyance and reuse on low income and minority populations. The conveyance and reuse will not cause adverse and disproportionately high environmental or economic impacts to minority or low-income populations residing in the region.

Mitigation—No mitigation is required for direct impacts associated with conveyance of the property. Reuse will result in indirect impacts that can be mitigated through measures taken directly by state and local governments or imposed on private developers through state and local permitting processes. For example, Nassau County could change traffic signal timing, realign roadways, and institute traffic regulatory measures, thereby reducing intersection delays and overall congestion. Nassau County could impose limitations on air emissions or water discharges as conditions in building permits.

Comments Received on the FEIS—The Navy received one comment letter on the FEIS. EPA requested that the Navy incorporate measures to reduce reliance on automobile travel into the deed or other conveyance documents. The Navy has no authority to impose such restrictions in a deed or other conveyance document. Measures relating to limitations on parking or traffic control measures are a function of local zoning and permitting authorities that are purely functions of state and local government police powers.

EPA also requested that Navy determine whether airborne volatile organic compounds emanating from contaminated groundwater affected indoor air. Navy gathered and analyzed indoor air samples and provided the results of the analysis to EPA and the New York Department of Environmental Conservation. The results of this indoor air analysis will be incorporated into the Navy's Finding of Suitability to Transfer (FOST).

Conclusion—Nassau County identified the Preferred Reuse Plan as the plan that best responds to local and regional economic conditions and promotes economic recovery from the closure of the NWIRP Bethpage. The Preferred Reuse Plan complies with the conditions imposed by Congress on the conveyance of the NWIRP property. Potentially significant environmental impacts associated with implementation of the Preferred Reuse Plan can be mitigated either directly by the State and Nassau County or indirectly through the regulatory authorities exercised by the State and Nassau County over private landowners and developers.

Although the “no action” alternative has less potential for adverse environmental impacts and is the environmentally preferred alternative, it would not promote local economic redevelopment and create jobs. Keeping the property in caretaker status would not be the highest and best use of the property because it would not take advantage of the property's physical characteristics and infrastructure.

Based on the analysis contained in the FEIS and associated administrative record, I have decided to convey the Naval Weapons Industrial Reserve Plant Bethpage, New York, to the County of Nassau as provided for in the Defense Authorization Act for fiscal year 1998.

Dated: October 23, 2001.
Duncan Holaday,
Deputy Assistant Secretary of the Navy (Installations and Facilities).

[FR Doc. 01-27617 Filed 11-1-01; 8:45 am]

BILLING CODE 3810-FF-P